DEPARTMENT OF COMMERCE

Bureau of Industry and Security

National Infrastructure Advisory Council; Notice of Open Meeting

The National Infrastructure Advisory Council (NIAC) will meet on Friday, February 7, 2003, at 12 p.m.-1:30 p.m. The meeting will be open to public access via conference call. Members of the public interested in attending by telephone should call (toll free) 1-888-899-7785 or (toll) 1-913-312-4169 and, when prompted, enter pass code 1468517.

The Council advises the President of the United States on the security of information systems for critical infrastructure supporting other sectors of the economy, including banking and finance, transportation, energy, manufacturing, and emergency government services.

Agenda

I. Introduction of NIAC Members.

II. Welcoming remarks—Richard Clarke, Special Advisor to the President for Cyberspace Security; Executive Director, NIAC.

III. Welcoming remarks—Richard Davidson, Chairman, NIAC.

IV. Discussion of future topics for study:

a. Internet Protocol Version 6.0.

b. Responsible disclosure of cyber attacks/incidents.

V. Comments.

VI. Adjournment.

Written comments may be submitted at any time before or after the meeting. However, to facilitate distribution of public presentation materials to Council members, the Council suggests that presenters forward the public presentation materials, ten days prior to the meeting date, to the following address: Ms. Wanda Rose, Critical Infrastructure Assurance Office, Bureau of Industry and Security, U.S. Department of Commerce, Room 6095, 14th Street & Constitution Avenue, NW., Washington, DC. 20230.

For more information contact Wanda Rose at (202) 482-7481.

Dated: January 21, 2003.
Janice L. Pesgna,
Acting Council Liaison Officer.

[FR Doc. 03-1779 Filed 1-24-03; 9:43 am]

BILLING CODE 3510-JT-M